ENVIRONMENTAL PROTECTION AGENCY

40 CFR Part 52

[EPA-R04-OAR-2023-0056; FRL-11369-02-R4]

Air Plan Approval; FL; Miscellaneous SIP Revision

AGENCY: Environmental Protection Agency (EPA).

ACTION: Final rule.

SUMMARY: The Environmental Protection Agency (EPA) is approving a Florida State Implementation Plan (SIP) revision, submitted by the State of Florida through the Florida Department of Environmental Protection (FDEP) on April 1, 2022. The SIP revision revises multiple stationary source rules in Florida's SIP with substantive and minor changes throughout. EPA is approving these changes pursuant to the Clean Air Act (CAA or Act).

DATES: This rule is effective December 6, 2023.

ADDRESSES: EPA has established a docket for this action under Docket Identification No. EPA-R04-OAR-2023-0056. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Josue Ortiz Borrero, Air Regulatory Management Section, Air Planning and Implementation Branch, Air and Radiation Division, U.S. Environmental Protection Agency, Region 4, 61 Forsyth Street SW, Atlanta, Georgia 30303-8960. Mr. Ortiz can be reached via phone number (404) 562-8085 or via electronic mail at ortizborrero.josue@epa.gov.

SUPPLEMENTARY INFORMATION:

I. Background

EPA is approving certain changes to the Florida SIP that were submitted by FDEP on April 1, 2022. Specifically, EPA is approving changes to Rules 62-296.414, Florida Administrative Code (F.A.C.), Concrete Batching Plants; 62-296.415, F.A.C., Soil Thermal Treatment Facilities; 62-296.418, F.A.C., Bulk Gasoline Plants; 62-296.500, F.A.C., Reasonably Available Control Technology (RACT)—Volatile Organic Compounds (VOC) and Nitrogen Oxides (NOX) Emitting Facilities; 62-296.501, F.A.C., Can Coating; 62-296.502, F.A.C., Coil Coating; 62-296.503, F.A.C., Paper Coating; 62-296.504, F.A.C., Fabric and Vinyl Coating; 62-296.505, F.A.C., Metal Furniture Coating; 62-296.506, F.A.C., Surface Coating of Large Appliances; 62-296.507, F.A.C., Magnet Wire Coating; 62-296.508, F.A.C., Petroleum Liquid Storage; 62-296.510, F.A.C., Bulk Gasoline Terminals; 62-296.511, F.A.C., Solvent Metal Cleaning; 62-296.512, F.A.C., Cutback Asphalt; 62-296.513, F.A.C., Surface Coating of Miscellaneous Metal Parts and Products; 62-296.514, F.A.C., Surface Coating of Flat Wood Paneling; 62-296.515, F.A.C., Graphic Arts Systems; and 62-296.516, F.A.C., Petroleum Liquid Storage Tanks with External Floating Roofs.¹ These changes are for multiple stationary source emission standards rules in Florida's SIP with substantive and minor changes throughout.

¹ The April 1, 2022, submittal transmits several changes to other Florida SIP-approved rules. These changes are not addressed in this action and will be considered by EPA in separate rulemakings.

Through a notice of proposed rulemaking (NPRM), published on September 11, 2023, (88 FR 62303), EPA proposed to approve the April 1, 2022, submission. The details of Florida's submission, which amend various stationary source emission standards, as well as EPA's rationale for approving the changes, are described in the September 11, 2023, NPRM. Comments on the September 11, 2023, NPRM were due on or before October 11, 2023. EPA did not receive any adverse comments on the September 11, 2023, NPRM.

II. Incorporation by Reference

In this document, EPA is finalizing regulatory text that includes incorporation by reference. In accordance with the requirements of 1 CFR 51.5, and as discussed in Section I of this preamble, EPA is finalizing the incorporation by reference of Rules 62-296.414, F.A.C., Concrete Batching Plants; 62-296.415, F.A.C., Soil Thermal Treatment Facilities; 62-296.511, F.A.C., Solvent Metal Cleaning, each state effective November 5, 2020; 62-296.418, F.A.C., Bulk Gasoline Plants; 62-296.500, F.A.C., Reasonably Available Control Technology (RACT)—Volatile Organic Compounds (VOC) and Nitrogen Oxides (NOX) Emitting Facilities; 62-296.512, F.A.C., Cutback Asphalt, each state effective August 14, 2019; and 62-296.501, F.A.C., Can Coating; 62-296.502, F.A.C., Coil Coating; 62-296.503, F.A.C., Paper Coating; 62-296.504, F.A.C., Fabric and Vinyl Coating; 62-296.505, F.A.C., Metal Furniture Coating; 62-296.506, F.A.C., Surface Coating of Large Appliances; 62-296.507, F.A.C., Magnet Wire Coating; 62-296.508, F.A.C., Petroleum Liquid Storage; 62-296.510, F.A.C., Bulk Gasoline Terminals; 62-296.513, F.A.C., Surface Coating of Miscellaneous Metal Parts and Products; 62-296.514, F.A.C., Surface Coating of Flat Wood Paneling; 62-296.515, F.A.C., Graphic Arts Systems; and 62-296.516, F.A.C., Petroleum Liquid Storage Tanks with External Floating Roofs, all state effective on July 10, 2014. EPA has made, and will continue to make, these materials generally available through www.regulations.gov and at the EPA Region 4 Office (please contact the person identified in the For Further Information Contact section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.²

² See 62 FR 27968 (May 22, 1997).

III. Final Action

EPA is finalizing the approval of the April 1, 2022, Florida SIP revision to incorporate various changes to Rules 62-296.414, F.A.C., Concrete Batching Plants; 62-296.415, F.A.C., Soil Thermal Treatment Facilities; 62-296.418, F.A.C., Bulk Gasoline Plants; 62-296.500, F.A.C., Reasonably Available Control Technology (RACT)—Volatile Organic Compounds (VOC) and Nitrogen Oxides (NOX) Emitting Facilities; 62-296.501, F.A.C., Can Coating; 62-296.502, F.A.C., Coil Coating; 62-296.503, F.A.C., Paper Coating; 62-296.504, F.A.C., Fabric and Vinyl Coating; 62-296.505, F.A.C., Metal Furniture Coating; 62-296.506, F.A.C., Surface Coating of Large Appliances; 62-296.507, F.A.C., Magnet Wire Coating; 62-296.508, F.A.C., Petroleum Liquid Storage; 62-296.510, F.A.C., Bulk Gasoline Terminals; 62-296.511, F.A.C., Solvent Metal Cleaning; 62-296.512, F.A.C., Cutback Asphalt; 62-296.513, F.A.C., Surface Coating of Miscellaneous Metal Parts and Products; 62-296.514, F.A.C., Surface Coating of Flat Wood Paneling; 62-296.515, F.A.C., Graphic Arts Systems; and 62-296.516, F.A.C., Petroleum Liquid Storage Tanks with External Floating Roofs, from the Florida SIP. EPA is approving these changes because they will not interfere with the attainment or maintenance of the NAAQS or any other applicable requirement of the CAA.

IV. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and will not impose substantial direct costs on Tribal Governments or preempt tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

FDEP did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for people of color, low-income populations, and Indigenous peoples.

This action is subject to the Congressional Review Act, and EPA will submit a rule report to each House of the Congress and to the Comptroller General of the United States. This action is not a “major rule” as defined by 5 U.S.C. 804(2).

Under section 307(b)(1) of the Clean Air Act, petitions for judicial review of this action must be filed in the United States Court of Appeals for the appropriate circuit by January 5, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Particulate matter, Reporting and recordkeeping requirements, Sulfur oxides.

Dated: October 24, 2023.
Jeaneanne Gettle,
Acting Regional Administrator, Region 4.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart K—Florida

2. In § 52.520(c), amend the table by revising the entries for “62-296.414,” “62-296.415,” “62-62-296.418,” “62-296.500,” “62-296.501,” “62-296.502,” “62-296.503,” “62-296.504,” “62-296.505,” “62-296.506,” “62-296.507,” “62-296.508,” “62-296.510,” “62-296.511,” “62-296.512,” “62-296.513,” “62-296.514,” “62-296.515,” and “62-296.516.”

The revisions read as follows:

§ 52.520 Identification of plan.

* * * * *

(c) * * *

EPA-Approved Florida Laws and Regulations
State citation (section) | Title/subject | State effective date | EPA approval date | Explanation
* * * * * * *
Chapter 62-296 Stationary Sources—Emission Standards
62-296.414 | Concrete Batching Plants | 11/5/2020 | 11/6/2023, [Insert citation of publication]
62-296.415 | Soil Thermal Treatment Facilities | 11/5/2020 | 11/6/2023, [Insert citation of publication]
62-296.418 | Bulk Gasoline Plants | 8/14/2019 | 11/6/2023, [Insert citation of publication]
* * * * * * *
62-296.500 | Reasonably Available Control Technology (RACT)—Volatile Organic Compounds (VOC) and Nitrogen Oxides (NOX) Emitting Facilities | 8/14/2019 | 11/6/2023, [Insert citation of publication]
62-296.501 | Can Coating | 7/10/2014 | 11/6/2023, [Insert citation of publication]
62-296.502 | Coil Coating | 7/10/2014 | 11/6/2023, [Insert citation of publication]
62-296.503 | Paper Coating | 7/10/2014 | 11/6/2023, [Insert citation of publication]
62-296.504 | Fabric and Vinyl Coating | 7/10/2014 | 11/6/2023, [Insert citation of publication]
62-296.505 | Metal Furniture Coating | 7/10/2014 | 11/6/2023, [Insert citation of publication]
62-296.506 | Surface Coating of Large Appliances | 7/10/2014 | 11/6/2023, [Insert citation of publication]
62-296.507 | Magnet Wire Coating | 7/10/2014 | 11/6/2023, [Insert citation of publication]
62-296.508 | Petroleum Liquid Storage | 7/10/2014 | 11/6/2023, [Insert citation of publication]
62-296.510 | Bulk Gasoline Terminals | 7/10/2014 | 11/6/2023, [Insert citation of publication]
62-296.511 | Solvent Metal Cleaning | 11/5/2020 | 11/6/2023, [Insert citation of publication]
62-296.512 | Cutback Asphalt | 8/14/2019 | 11/6/2023, [Insert citation of publication]
62-296.513 | Surface Coating of Miscellaneous Metal Parts and Products | 7/10/2014 | 11/6/2023, [Insert citation of publication]
62-296.514 | Surface Coating of Flat Wood Paneling | 7/10/2014 | 11/6/2023, [Insert citation of publication]
62-296.515 | Graphic Arts Systems | 7/10/2014 | 11/6/2023, [Insert citation of publication]
62-296.516 | Petroleum Liquid Storage Tanks with External Floating Roofs | 7/10/2014 | 11/6/2023, [Insert citation of publication]
* * * * * * *

* * * * *

[FR Doc. 2023-23833 Filed 11-3-23; 8:45 am]

BILLING CODE 6560-50-P